DEPARTMENT OF COMMERCE

Foreign-Trade Zones Board

[B-90-2012]

Foreign-Trade Zone 26—Atlanta, GA; Notification of Proposed Production Activity; Perkins Shibaura Engines LLC, (Diesel Engines), Griffin, GA

Perkins Shibaura Engines LLC (Perkins Shibaura), an operator of FTZ 26, submitted a notification of proposed production activity for its facility in Griffin, Georgia. The notification conforming to the requirements of the regulations of the Foreign-Trade Zones Board (15 CFR 400.22) was received on November 29, 2012.

The Perkins Shibaura facility is located within Site 6 of FTZ 26. The facility is used for the production of diesel engines used in off-road vehicles. Production under FTZ procedures could exempt Perkins Shibaura from customs duty payments on the foreign status components and materials used in export production. On its domestic sales, Perkins Shibaura would be able to choose the duty rate during customs entry procedures that applies to diesel engines (free) for the foreign status inputs noted below. Customs duties also could possibly be deferred or reduced on foreign status production equipment.

Components and materials sourced from abroad include: Plastic hoses, gaskets, copper washers/gaskets, sign plates, relief valves, hose assemblies, thermostat covers/cases, valve bodies, sensors, resistors, radiators, and electronic control units (duty rate ranges from free to 5%).

Public comment is invited from interested parties. Submissions shall be addressed to the Board's Executive Secretary at the address below. The closing period for their receipt is January 29, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: December 13, 2012.
Andrew McGilvray,
Executive Secretary.

[FR Doc. 2012-30578 Filed 12-19-12; 8:45 am]

BILLING CODE P